DEPARTMENT OF DEFENSE

GENERAL SERVICES ADMINISTRATION

NATIONAL AERONAUTICS AND SPACE ADMINISTRATION

48 CFR Parts 4 and 19

[FAC 2024-07; Item II; Docket No. FAR-2024-0052; Sequence No. 3]

Federal Acquisition Regulation; Technical Amendments

AGENCY: Department of Defense (DoD), General Services Administration (GSA), and National Aeronautics and Space Administration (NASA).

ACTION: Final rule.

SUMMARY: This document makes administrative changes to 48 CFR parts 4 and 19. The date change is to provide additional time to implement the policy addressing the assignment of North American Industry Classification System codes to orders placed under multiple-award contracts, as covered by changes made by FAR Case 2014-002, Set-Asides Under Multiple-Award Contracts, 85 FR 11746.

DATES: Effective: September 30, 2024.

FOR FURTHER INFORMATION CONTACT: Ms. Lois Mandell, Regulatory Secretariat Division (MVCB), at 202-501-4755 or GSARegSec@gsa.gov. Please cite FAC 2024-07, Technical Amendments.

SUPPLEMENTARY INFORMATION:

This document makes editorial changes to 48 CFR parts 4 and 19.

List of Subjects in 48 CFR Parts 4 and 19

Government procurement.

William F. Clark,
Director, Office of Government-Wide Acquisition Policy, Office of Acquisition Policy, Office of Government-Wide Policy.

Therefore, DoD, GSA, and NASA amend 48 CFR parts 4 and 19 as set forth below:

1. The authority citation for 48 CFR parts 4 and 19 continues to read as follows:

Authority: 40 U.S.C. 121(c); 10 U.S.C. chapter 4 and 10 U.S.C. chapter 137 legacy provisions (see 10 U.S.C. 3016); and 51 U.S.C. 20113.

PART 4—ADMINISTRATIVE AND INFORMATION MATTERS

4.1202[Amended]

2. Amend section 4.1202 by removing from paragraph (a) introductory text the date “October 1, 2025” and adding the date “October 1, 2028” in its place.

PART 19—SMALL BUSINESS PROGRAMS

19.102 [Amended]

3. Amend section 19.102 by removing from paragraphs (b)(2)(i) and (b)(2)(ii) introductory text the date “October 1, 2025” and adding the date “October 1, 2028” in their places, respectively.

19.309 [Amended]

4. Amend section 19.309 by removing from paragraphs (a)(3) and (c)(2) the date “October 1, 2025” and adding the date “October 1, 2028” in their places, respectively.

[FR Doc. 2024-19174 Filed 8-28-24; 8:45 am]

BILLING CODE 6820-6EP-P